COMMISSION ON CIVIL RIGHTS

Notice of Public Meeting of the Alaska State Advisory Committee

AGENCY: U.S. Commission on Civil Rights.

ACTION: Announcement of public meeting.

DATES: Wednesday, April 27, 2016 & Monday, May 16, 2016.

Time: 12:00 p.m.-1:00 p.m. (Alaska Time).

SUMMARY: Notice is hereby given, pursuant to the provisions of the rules and regulations of the U.S. Commission on Civil Rights (Commission) and the Federal Advisory Committee Act (FACA) that a meeting of the Alaska Advisory Committee (Committee) to the Commission will be held at 12:00 p.m. (Alaska Time) Wednesday, April 27, 2016, and Monday, May 16, 2016 for the purpose of considering and voting upon new topics for the Alaska Advisory Committee's new project for FY 2016.

These meetings are available to the public through the following toll-free call-in numbers: April 27, 2016: 888-417-8465; when prompted, please provide conference ID number: 7924734. May 16, 2016: 888-556-4997; when prompted, please provide conference ID number: 4783937. Any interested member of the public may call this number and listen to the meeting. Callers can expect to incur charges for calls they initiate over wireless lines, and the Commission will not refund any incurred charges. Callers will incur no charge for calls they initiate over land-line connections to the toll-free telephone number.

Persons with hearing impairments may also follow the proceedings by first calling the Federal Relay Service at 1-800-977-8339 and providing the Service with the conference call number and conference ID number. Hearing-impaired persons who will attend the meeting and require the services of a sign language interpreter should contact the Regional Office at least ten (10) working days before the scheduled date of the meeting.

Members of the public are entitled to make comments during the open period at the end of the meeting. Members of the public may also submit written comments within thirty (30) days of the meeting. The comments must be received in the Western Regional Office of the Commission by Friday, May 27, 2016, and Thursday, June 16, 2016, respectively. The address is Western Regional Office, U.S. Commission on Civil Rights, 300 N. Los Angeles Street, Suite 2010, Los Angeles, CA 90012. Persons wishing to email their comments may do so by sending them to Angela French-Bell, Regional Director, Western Regional Office, at abell@usccr.gov.

Records and documents discussed during the meeting will be available for public viewing prior to and after the meeting at http://facadatabase.gov/committee/meetings.aspx?cid=234. Please click on the “Meeting Details” and “Documents” links. Records generated from this meeting may also be inspected and reproduced at the Western Regional Office, as they become available, both before and after the meeting. Persons interested in the work of this Committee are directed to the Commission's Web site, http://www.usccr.gov, or may contact the Western Regional Office at the above email or street address.

Agenda For April 27, 2016:

I. Introductory Remarks

II. Discussion of New Projects

III. Public Comment

IV. Adjournment

Agenda For May 16, 2016:

I. Introductory Remarks

II. Vote on Proposal

III. Public Comment

IV. Adjournment

FOR FURTHER INFORMATION CONTACT: Angela French-Bell, DFO, at (213) 894-3437 or abell@usccr.gov.

Dated: April 12, 2016.
David Mussatt,
Chief, Regional Programs Coordination Unit.

[FR Doc. 2016-08793 Filed 4-15-16; 8:45 am]

BILLING CODE 6335-01-P